DEPARTMENT OF HEALTH AND HUMAN SERVICES

Centers for Medicare & Medicaid Services

42 CFR Parts 405, 410, 411, 413, 414, 424 and 426

[CMS-1502-F2 and CMS-1325-F]

RIN 0938-AN84 and 098-AN58

Medicare Program; Revisions to Payment Policies Under the Physician Fee Schedule for Calendar Year 2006 and Certain Provisions Related to the Competitive Acquisition Program of Outpatient Drugs and Biologicals Under Part B; Correcting Amendment

AGENCY: Centers for Medicare & Medicaid Services (CMS), HHS.

ACTION: Correcting amendment to final rule with comment.

SUMMARY: In the November 21, 2005 Federal Register(70 FR 70116), we published a final rule with comment period entitled “Medicare Program; Revisions to Payment Policies Under the Physician Fee Schedule for Calendar Year 2006 and Certain Provisions Related to the Competitive Acquisition Program of Outpatient Drugs and Biologicals Under Part B.” This correcting amendment corrects technical errors in the November 21, 2005 publication.

EFFECTIVE DATE: This correcting amendment is effective January 1, 2006.

FOR FURTHER INFORMATION CONTACT: Diane Milstead, (410) 786-3355.

SUPPLEMENTARY INFORMATION:

I. Background

FR Doc. 05-22160, entitled “Medicare Program; Revisions to Payment Policies Under the Physician Fee Schedule for Calendar Year 2006 and Certain Provisions Related to the Competitive Acquisition Program of Outpatient Drugs and Biologicals Under Part B” and appearing in the Federal Register on November 21, 2005 (70 FR 70116), addressed Medicare Part B payment policy, including the physician fee schedule, that is applicable for calendar year (CY) 2006; and finalized certain provisions of the interim final rule to implement the Competitive Acquisition Program (CAP) for Part B Drugs.

It also revised Medicare Part B payment and related policies regarding: Physician work, practice expense and malpractice relative value units (RVUs); Medicare telehealth services; multiple diagnostic imaging procedures; covered outpatient drugs and biologicals; supplemental payments to Federally Qualified Health Centers (FQHCs); renal dialysis services; coverage for glaucoma screening services; National Coverage Decision (NCD) timeframes; and physician referrals for nuclear medicine services and supplies to health care entities with which physicians have financial relationships.

In addition, the rule finalized the interim RVUs for CY 2005 and issued interim RVUs for new and revised procedure codes for CY 2006. This rule also updated the codes subject to the physician self-referral prohibition and discussed payment policies relating to teaching anesthesia services, therapy caps, private contracts and opt-out, and chiropractic and oncology demonstrations.

We have identified a number of technical errors in that final rule with comment period.

II. Summary of Errors

We are identifying and correcting errors made to certain parts of the preamble, regulations text and addenda of the November 21, 2005 final rule with comment (70 FR 70116). In addition, addendum B, C, D, E and F are revised under this correcting amendment, although these addenda will not appear in the Code of Federal Regulations.

A. Summary of Preamble Errors

In the preamble text, there were a number of errors and omissions beginning on pages 70150 through 70335.

1. On page 70150, in the first column, in the last paragraph under Section m. (Additional PE Issues Raised by Commenters), in the second sentence, the number of the CPT code referenced is incorrect.

2. On page 70155, in the center column, the last sentence of the second paragraph under the discussion titled, “3. Cardiac Catheritization and Angioplasty Exception,” there was an error in one of the code ranges referenced.

3. On page 70263, in the third column; in last paragraph, the reference to Table 26 is incorrect.

4. On page 70263, Table 26 was numbered incorrectly.

5. On page 70274, in the first column; in the second paragraph language concerning the specific deleted practice expense items was inadvertently omitted.

6. On page 70282, in the second column; from the top of the column, lines 8 through 11, the sentence, “We are assigning a status indicator of N for these services because they are nonvcovered under Medicare.” reflects an incorrect status indicator and will be revised.

7. On page 70282, in the third column; we inadvertently omitted a paragraph before section F. (Establishment of Interim PE RVUs for New and Revised Physician's Current Procedural Terminology (CPT) Codes and New Healthcare Common Procedure Coding System (HCPCS) Codes for 2006).

8. On page 70296, in the second column; in the last paragraph, in line 6, we incorrectly used the term “PFS”, and that term will be replaced.

9. On page 70302, in Table 35, the figures for Annual Actual Expenditures and the Cumulative Actual Expenditures, for the period of 1/1/03-12/31/03, are incorrect and will be revised.

10. On page 70316, the first column, the percentage adjustment referenced in the third complete sentence is incorrect and will be revised.

11. On page 70320, the second footnote to Table 49 has incorrectly listed the numerical scaler. This footnote will be corrected.

These corrections are reflected in Section III.A of this correcting amendment.

B. Summary of Regulations Text Errors

In the regulation text, there were technical errors and omissions in § 405.2469, § 414.190, § 414.904, § 414.906, and § 426.340.

1. On page 70329, in the third column, under § 405.2469, paragraph (a)(1) does not reflect the correct format for amendatory language. Paragraph (a)(1) will be restructured.

2. On page 70331, in the third column, the reference to § 414.190 is incorrect.

3. On page 70332, in the third column, the title (Basis for payment.) for § 414.904 is incorrect.

4. On page 70333, in the first column, under § 414.906, we inadvertently omitted a change to bring the regulations text into conformity with our policy on updating CAP drug prices, as described in the interim final rule with comment period published July 6, 2005.

5. On page 70335, in the first column, under § 426.340, the statutory references in paragraphs (e)(2)(ii) and (f)(2)(ii) are incorrect.

The corrections are reflected in section III.B. of this correcting amendment.

C. Summary of Addendum B, C, D, E and F Errors

1. In Addendum B, pages 70337 through 70463, we are making the following corrections:

a. We assigned incorrect RVUs to the following Physicians' CPT or HCPCS codes:

50000:

i. 52648;

60000:

ii. 61630, 61635;

80000:

iii. 88385-26, 88385-TC, 88385, 88386-26, 88386-TC, and 88386;

90000:

iv. 90760, 90761, 90765, 90766, 90767, 90768, 90772, 90773, 90774, 90775, 92626, 92627, 93514, 96401, 96402, 96405, 96406, 96409, 96411, 96413, 96415, 96416, 96417, 96420, 96440, 96450, 96521, 96522, 96542, 97606, 99300, 99324, 99325, 99326, 99327, 99328, 99334, 99335, 99336, and 99337.

b. We assigned an incorrect global period for CPT code 92627.

c. We assigned incorrect status indicators to the following CPT or codes 0141T, 0142T, 0143T, 88385-26, 88385-TC, 88385, 88386-26, 88386-TC, 88386, 96523, 98960, 98961, 98962 and 99340.

d. The following HCPCS codes were inadvertently included: G9041, G9042, G9043 and G9044. These numbers should not have been included because they were not in effect.

e. HCPCS code G0332 was inadvertently omitted from the addendum.

f. The first footnote to addendum B should be corrected to read “¹CPT codes and descriptions only. Copyright 2005 American Medical Association. All Rights Reserved. Applicable FARS/DFARS apply.”

These corrections are reflected in Sections III.C.1. and 2. of this correcting amendment.

2. In Addendum C, pages 70463 through 70466, we are making the following corrections:

a. We assigned incorrect RVUs to the following CPT or alphanumeric HCPCS number for service codes:

60000:

i. 61630 and 61635.

80000:

ii. 88385-26 and 88386-26.

90000:

iii. 90760, 90761, 90765, 90766, 90767, 90768, 90772, 90773, 90774, 90775, 92626, 92627, 96401, 96402, 96409, 96411, 96413, 96415, 96416, 96417, 96450, 96521, 96522, 96523, 96542, 99300, 99324, 99325, 99326, 99327, 99328, 99334, 99335, 99336 and 99337.

b. We assigned incorrect status indicators to the following CPT codes 88385-26, 88386-26, 98960, 98961, 98962 and 99340.

These corrections are reflected in Section III.C.3 of this correcting amendment.

3. In Addendum D, pages 70466 through 70467, we are correcting the locality name “Kansas*” to read “Kansas”.

These corrections are reflected in Section III.C.4 of this correcting amendment.

4. In Addendum E, pages 70468 through 70469, we are correcting the locality name “Kansas*” to read “Kansas”.

These corrections are reflected in Section III.C.5 of this correcting amendment.

5. In Addendum F, pages 70469 through 70471, we are correcting this Addendum by replacing this Addendum in its entirety to address two errors. First, we inadvertently left a discontinued HCPCS code, J1750, on Addendum F. This code was replaced by J1751 and J1752 which are found on Addendum G “Revised New Drugs for CAP Bidding for 2006”. Second, we included a new HCPCS code, J7318, which we understood would replace HCPCS codes J7317 and J7320. HCPCS J7318 was not issued and HCPCS codes J7317 & J3120 were retained. We have reweighted and corrected Addendum F to reflect these changes.

These corrections are reflected in Section III.C.6 of this correcting amendment.

III. Correction of Errors

In FR Doc. 05-22160, entitled “Medicare Program; Revisions to Payment Policies Under the Physician Fee Schedule for Calendar Year 2006 and Certain Provisions Related to the Competitive Acquisition Program of Outpatient Drugs and Biologicals Under Part B,” which appeared in the Federal Register on November 21, 2005 (70 FR 70116), make the following corrections:

A. Correction of Preamble Errors

1. On page 70150, in the first column; in the last paragraph under Section m. (Additional PE Issues Raised by Commenters), in the second sentence, the number “99755” is corrected to read “97755”.

2. On page 70155, in the center column; the last sentence of the second paragraph under the discussion titled, “3. Cardiac Catheterization and Angioplasty Exception,” the number “93617” is corrected to read “93618”.

3. On page 70263, in the third column; in the last paragraph, the phrase “Table 26” is corrected to read “Table 26A”.

4. On page 70263, the table heading “Table 26.—Example of Payments” is corrected to read “Table 26A.—Example of Payments”.

5. On page 70274, in the first column; in the second paragraph, the paragraph is corrected by adding a new sentence at the end of the paragraph to read as follows: “Because payment for the supplies and equipment for both of these procedures is provided under a separate DMERC policy, we have deleted the following practice expense items from these codes: Supplies deleted include dressings, both Adaptic and microporous, the drainage canister, and the sharp debridement kit—which was identified as not being needed for the typical scenario; and, the vacuum pump was deleted from the equipment.”

6. On page 70282, in the second column; lines 8 through 11, the sentence, “We are assigning a status indicator of N for these services because they are noncovered under Medicare.” is corrected to read, “We are assigning a status indicator of B for these services because payment for these services is bundled into payment for other Medicare services.”

7. On page 70282, in the third column; we are adding a new paragraph before section F. (Establishment of Interim PE RVUs for New and Revised Physician's Current Procedural Terminology (CPT) Codes and New Healthcare Common Procedure Coding System (HCPCS) Codes for 2006). The new paragraph reads as follows: “CPT code 99339 Individual physician supervision of patient (patient not present) in home, domiciliary or rest home (e.g., assisted living facility) requiring complex and multidisciplinary care modalities involving regular physician development and/or revision of care plans, review of subsequent reports of patient status, review of related laboratory and other studies, communication (including telephone calls) for purposes of assessment care decisions with health care professional(s), family member(s), surrogate decision maker(s) (e.g., legal guardian) and/or key caregiver(s) involved in patient's care, integration of new information into the medical treatment plan and/or adjustment of medical therapy, within a calendar month; 15-29 minutes.

CPT code 99340 Individual physician supervision of patient (patient not present) in home, domiciliary or rest home (e.g., assisted living facility) requiring complex and multidisciplinary care modalities involving regular physician development and/or revision of care plans, review of subsequent reports of patient status, review of related laboratory and other studies, communication (including telephone calls) for purposes of assessment care decisions with health care professional(s), family member(s), surrogate decision maker(s) (e.g., legal guardian) and/or key caregiver(s) involved inpatient's care, integration of new information into the medical treatment plan and/or adjustment of medical therapy, within a calendar month; 30 minutes or more. We are assigning a status indicator of B for these codes because payment for these services is bundled into payment for other services.”

8. On page 70296, in the second column; in the last paragraph, in line 6, the term “PFS” is corrected to read “Code List”.

9. On page 70302, in Table 35; in the third column titled “Annual Actual Expenditures”, in line 10 (1/1/03-12/31/03) of that column, “76.8” is corrected to read “78.2”; and in the fifth column titled “Cumulative Actual Expenditures”, in line 10 (1/1/03-12/31/03) of that column, “460.6” is corrected to read “462.0”.

10. On page 70316, in the first column; in the third complete sentence, the figure “−0.6” is corrected to read “−0.15”.

11. On page 70320, in the second footnote to Table 49, the figure “0.9984” is corrected to read “0.9985”.

B. Correction of Regulation Text Errors

List of Subjects

42 CFR Part 405

Administrative practice and procedure, Health facilities, Health professions, Kidney diseases, Medical devices, Medicare, Reporting and recordkeeping requirements, Rural areas, X-rays.

42 CFR Part 414

Administrative practice and procedure, Health facilities, Health professions, Kidney diseases, Medicare, Reporting and recordkeeping requirements.

42 CFR Part 426

Administrative practice and procedure, Medicare, Reporting and recordkeeping requirements.

Given the errors summarized in section II.B. of this correcting amendment, we are making the following correcting amendments to 42 CFR parts 405, 414, and 426:

PART 405—FEDERAL HEALTH INSURANCE FOR THE AGED AND DISABLED

1. The authority citation for part 405 continues to read as follows:

Authority: Secs. 1102, 1861, 1862(a), 1871, 1874, 1881, and 1886(k) of the Social Security Act (42 U.S.C. 1302, 1395x, 1395y(a), 1395hh, 1395kk, 1395rr, and 1395ww(k)), and sec. 353 of the Public Health Service Act (42 U.S.C. 263a).

2. Section 405.2469 is amended by revising paragraph (a)(1) to read as follows:

§ 405.2469 Federally Qualified Health Centers supplemental payments.

* * * * *

(a) Calculation of supplemental payment. (1) The supplemental payment for Federally Qualified Health Center covered services provided to Medicare patients enrolled in Medicare Advantage plans is based on the difference between—

(i) Payments received by the center from the Medicare Advantage plan as determined on a per visit basis; and

(ii) The Federally Qualified Health Center's all-inclusive cost-based per visit rate as set forth in this subpart, less any amount the FQHC may charge as described in section 1857(e)(3)(B) of the Act.

* * * * *

PART 414—PAYMENT FOR PART B MEDICAL AND OTHER HEALTH SERVICES

3. The authority citation for part 414 continues to read as follows:

Authority: Secs. 1102, 1871, and 1881(b)(1) of the Social Security Act (42 U.S.C. 1302, 1395hh, and 1395rr(b)(1)).

4. Section 414.906 is amended by revising paragraph (c)(1) introductory text to read as follows:

§ 414.906 Competitive acquisition program as the basis of payment.

* * * * *

(c) Computation of payment amount. (1) Except as specified in paragraph (c)(2) of this section, payment for CAP drugs is based on bids submitted, as a result of the bidding process as described in § 414.910. Based on these bids, a single payment amount for each CAP drug in the competitive acquisition area is determined on the basis of the bids submitted and accepted and updated from the bidding period to the payment year. This single payment amount is then updated on an annual basis based on the approved CAP vendor's reasonable net acquisition costs for that category as determined by CMS, based, in part, on information disclosed to CMS and limited by the weighted payment amount established under section 1847A of the Act across all drugs for which a composite bid is required in the category, and limited by the payment amount established under section 1847A of the Act for each other drug for which the approved CAP vendor submits a bid in accordance with § 414.910. Adjustment to the payment amounts may be made more often than annually, but no more often than quarterly, in any of the following cases:

* * * * *

PART 426—REVIEW OF NATIONAL COVERAGE DETERMINATIONS AND LOCAL COVERAGE DETERMINATIONS

5. The authority citation for part 426 continues to read as follows:

Authority: Secs. 1102 and 1871 of the Social Security Act (42 U.S.C. 1302 and 1395hh).

6. Section 426.340 is amended by revising paragraphs (e)(2)(ii) and (f)(2)(ii) to read as follows:

§ 426.340 Procedures for review of new evidence.

* * * * *

(e) * * *

(2) * * *

(ii) For NCDs, in compliance with the timeframes specified in section 1862(1) of the Act, by which CMS completes the reconsideration.

(f) * * *

(2) * * *

(ii) For NCDs, the reconsideration timeframe specified by the Board, in compliance with section 1862(l) of the Act.

* * * * *

C. Correction of Addendum Errors

Given the errors summarized in Section II.C of this correcting amendment, we are making the following corrections to Addendum B, C, D, E, and F. These addenda will not appear in the Code of Federal Regulations.

1. On pages 70337 through 70463, the following entries to Addendum B are corrected to read as follows:

Addendum B.—Relative Value Units (RVUs) and Related Information—Continued
CPT ¹/HCPCS ² | Mod | Status | Description | Physician work RVUs ³ | Nonfacility PE RVUs | Facility PE RVUs | Malpractice RVUs | Nonfacility total | Facility total | Global
0141T |  | I | Perq islet transplant | 0.00 | 0.00 | 0.00 | 0.00 | 0.00 | 0.00 | XXX
0142T |  | I | Open islet transplant | 0.00 | 0.00 | 0.00 | 0.00 | 0.00 | 0.00 | XXX
0143T |  | I | Laparoscopic islet transplant | 0.00 | 0.00 | 0.00 | 0.00 | 0.00 | 0.00 | XXX
52648 |  | A | Laser surgery of prostate | 11.19 | 74.15 | 4.80 | 0.79 | 86.07 | 16.78 | 090
61630 |  | N | Intracranial angioplasty | +21.08 | NA | 12.53 | 2.01 | NA | 35.62 | 090
61635 |  | N | Intracran angioplasty w/stent | +23.08 | NA | 13.58 | 2.20 | NA | 38.86 | 090
88385 | 26 | A | Eval molecul probes, 51-250 | 1.50 | 0.65 | NA | 0.06 | 2.21 | NA | XXX
88385 | TC | A | Eval molecul probes, 51-250 | 0.00 | 6.45 | NA | 0.06 | 6.51 | NA | XXX
88385 |  | A | Eval molecul probes, 51-250 | 1.50 | 7.10 | NA | 0.12 | 8.72 | NA | XXX
88386 | 26 | A | Eval molecul probes, 251-500 | 1.88 | 0.82 | NA | 0.08 | 2.78 | NA | XXX
88386 | TC | A | Eval molecul probes, 251-500 | 0.00 | 6.23 | NA | 0.08 | 6.31 | NA | XXX
88386 |  | A | Eval molecul probes, 251-500 | 1.88 | 7.05 | NA | 0.16 | 9.09 | NA | XXX
90760 |  | A | Hydration iv infusion init | 0.17 | 1.43 | NA | 0.07 | 1.67 | NA | XXX
90761 |  | A | Hydrate iv infusion, add-on | 0.09 | 0.40 | NA | 0.04 | 0.53 | NA | ZZZ
90765 |  | A | Ther/proph/diag iv inf, init | 0.2 | 11.76 | NA | 0.07 | 2.04 | NA | XXX
90766 |  | A | Ther/proph/dg iv inf, add-on | 0.18 | 0.46 | NA | 0.04 | 0.68 | NA | ZZZ
90767 |  | A | Tx/proph/dg addl seq iv inf | 0.19 | 0.89 | NA | 0.04 | 1.12 | NA | ZZZ
90768 |  | A | Ther/diag concurrent inf | 0.17 | 0.44 | NA | 0.04 | 0.65 | NA | ZZZ
90772 |  | A | Ther/proph/diag inj, sc/im | 0.17 | 0.31 | NA | 0.01 | 0.49 | NA | XXX
90773 |  | A | Ther/proph/diag inj, ia | 0.17 | 0.31 | NA | 0.02 | 0.50 | NA | XXX
90774 |  | A | Ther/proph/diag inj, iv push | 0.18 | 1.30 | NA | 0.04 | 1.52 | NA | XXX
90775 |  | A | Ther/proph/diag inj add-on | 0.10 | 0.57 | NA | 0.04 | 0.71 | NA | ZZZ
92626 |  | A | Eval aud status rehab | 0.00 | 2.20 | NA | 0.06 | 2.26 | NA | XXX
92627 |  | A | Evallaud status rehab add-on | 0.00 | 0.55 | NA | .02 | 0.57 | NA | ZZZ
93514 |  | C | Left heart catheterization | 0.00 | 0.00 | 0.00 | 0.00 | 0.00 | 0.00 | 000
96401 |  | A | Chemo, anti-neopl, sq/im | 0.2 | 11.17 | NA | 0.01 | 1.39 | NA | XXX
96402 |  | A | Chemo hormon antineopl sq/im | 0.19 | 1.01 | NA | 0.01 | 1.21 | NA | XXX
96405 |  | A | Chemo intralesional, up to 7 | 0.52 | 2.44 | 0.24 | 0.03 | 2.99 | 0.79 | 000
96406 |  | A | Chemo intralesional over 7 | 0.80 | 3.02 | 0.29 | 0.03 | 3.85 | 1.12 | 000
96409 |  | A | Chemo, iv push, sngl drug | 0.24 | 2.93 | NA | 0.06 | 3.23 | NA | XXX
96411 |  | A | Chemo, iv push, addl drug | 0.20 | 1.61 | NA | 0.06 | 1.87 | NA | ZZZ
96413 |  | A | Chemo, iv infusion, 1 hr | 0.28 | 4.20 | NA | 0.08 | 4.56 | NA | XXX
96415 |  | A | Chemo, iv infusion, addl hr | 0.19 | 0.77 | NA | 0.07 | 1.03 | NA | ZZZ
96416 |  | A | Chemo prolong infuse w/pump | 0.21 | 4.61 | NA | 0.08 | 4.90 | NA | XXX
96417 |  | A | Chemo iv infuse each addl seq | 0.2 | 11.95 | NA | 0.07 | 2.23 | NA | ZZZ
96420 |  | A | Chemo, ia, push technique | 0.17 | 2.67 | NA | 0.08 | 2.92 | NA | XXX
96440 |  | A | Chemotherapy, intracavitary | 2.37 | 8.15 | 1.23 | 0.17 | 10.693.77 | 000
96450 |  | A | Chemotherapy, into CNS | 1.53 | 6.97 | 1.29 | 0.09 | 8.59 | 2.91 | 000
96521 |  | A | Refill/maint, portable pump | 0.21 | 3.77 | NA | 0.06 | 4.04 | NA | XXX
96522 |  | A | Refill/maint pump/resvr syst | 0.21 | 2.65 | NA | 0.06 | 2.92 | NA | XXX
96523 |  | A | Irrig drug delivery device | 0.04 | 0.69 | NA | 0.01 | 0.74 | NA | XXX
96542 |  | A | Chemotherapy injection | 0.75 | 4.26 | 0.66 | 0.07 | 5.08 | 1.48 | XXX
97606 |  | A | Neg press wound tx, >50 cm | 0.60 | 0.35 | 0.24 | 0.03 | 0.98 | 0.87 | XXX

Addendum B.—Relative Value Units (RVUs) and Related Information—Continued
CPT ¹/HCPCS ² | Mod | Status | Description | Physician work RVUs ³ | Nonfacility PE RVUs | Facility PE RVUs | Malpractice RVUs | Nonfacility total | Facility total | Global
98960 |  | B | Self-mgmt educ & train, 1 pt | 0.00 | 0.00 | 0.00 | 0.00 | 0.00 | 0.00 | XXX
98961 |  | B | Self-mgmt educ/train, 2-4 pt | 0.00 | 0.00 | 0.00 | 0.00 | 0.00 | 0.00 | XXX
98962 |  | B | Self-mgmt educ/train, 5-8 pt | 0.00 | 0.00 | 0.00 | 0.00 | 0.00 | 0.00 | XXX
99300 |  | A | lc, infant pbw 2501-5000 gm | 2.40 | NA | 0.84 | 0.15 | NA | 3.35 | XXX
99324 |  | A | Domicil/r-home visit new pat | 1.01 | 0.49 | NA | 0.05 | 1.55 | NA | XXX
99325 |  | A | Domicil/r-home visit new pat | 1.52 | 0.68 | NA | 0.07 | 2.27 | NA | XXX
99326 |  | A | Domicil/r-home visit new pat | 2.27 | 0.92 | NA | 0.10 | 3.29 | NA | XXX
99327 |  | A | Domicil/r-home visit new pat | 3.03 | 1.17 | NA | 0.13 | 4.33 | NA | XXX
99328 |  | A | Domicil/r-home visit new pat | 3.78 | 1.42 | NA | 0.16 | 5.36 | NA | XXX
99334 |  | A | Domicil/r-home visit est pat | 0.76 | 0.40 | NA | 0.04 | 1.20 | NA | XXX
99335 |  | A | Domicil/r-home visit est pat | 1.26 | 0.58 | NA | 0.06 | 1.90 | NA | XXX
99336 |  | A | Domicil/r-home visit est pat | 2.02 | 0.82 | NA | 0.09 | 2.93 | NA | XXX
99337 |  | A | Domicil/r-home visit est pat | 3.03 | 1.15 | NA | 0.13 | 4.31 | NA | XXX
99340 |  | B | Domicil/r-home care supervis | 0.00 | 0.00 | 0.00 | 0.00 | 0.00 | 0.00 | XXX
G0332 |  | A | Preadmin IV immunoglobulin | 0.00 | 1.91 | NA | 0.00 | 1.91 | NA | XXX
¹ CPT codes and descriptions only. Copyright 2005 American Medical Association. All Rights Reserved. Applicable FARS/DFARS apply.
² Copyright 2005 American Dental Association. All Rights Reserved.
³ Indicates RVUs are not used for Medicare payment.

2. On page 70463, the following entries to Addendum B, G9041, G9042, G9043, and G9044 are removed.

Addendum B.—Relative Value Units (RVUs) and Related Information—Continued
CPT ¹/HCPCS ² | Mod | Status | Description | Physician work RVUs ³ | Nonfacility PE RVUs | Facility PE RVUs | Malpractice RVUs | Nonfacility total | Facility total | Global
G9041 |  | X | Low vision rehab occupationa | 0.00 | 0.00 | 0.00 | 0.00 | 0.00 | 0.00 | XXX
G9042 |  | X | Low vision rehab orient/mobi | 0.00 | 0.00 | 0.00 | 0.00 | 0.00 | 0.00 | XXX
G9043 |  | X | Low vision lowvision therapy | 0.00 | 0.00 | 0.00 | 0.00 | 0.00 | 0.00 | XXX
G9044 |  | X | Low vision rehabilate teache | 0.00 | 0.00 | 0.00 | 0.00 | 0.00 | 0.00 | XXX
¹ CPT codes and descriptions only. Copyright 2005 American Medical Association. All Rights Reserved. Applicable FARS/DFARS apply.
² Copyright 2005 American Dental Association. All Rights Reserved.
³ +Indicates RVUs are not used for Medicare payment.

3. On pages 70463 through 70466, the following entries to Addendum C are corrected to read as follows:

Addendum C.—Codes With Interim RVUs
CPT ¹/ HCPCS ² | Mod | Status | Description | Physician work RVUs ³ | Nonfacility PE RVUs | Facility PE RVUs | Malpractice RVUs | Nonfacility Total | Facility Total | Global
61630 |  | N | Intracranial angioplasty | +21.08 | NA | 12.53 | 2.01 | NA | 35.62 | 090
61635 |  | N | Intracran angioplasty w/stent | +23.08 | NA | 13.58 | 2.20 | NA | 30.66 | 090
88385 | 26 | A | Eval Molecul probes, 51-250 | 1.50 | 0.65 | NA | 0.06 | 2.21 | NA | XXX
88386 | 26 | A | Eval Molecul probes, 251-500 | 1.88 | 0.82 | NA | 0.08 | 2.78 | NA | XXX
90760 |  | A | Hydration iv infusion, init | 0.17 | 1.43 | NA | 0.07 | 1.67 | NA | XXX
90761 |  | A | Hydrate iv infusion, add-on | 0.09 | 0.40 | NA | 0.04 | 0.53 | NA | ZZZ
90765 |  | A | Ther/proph/diag iv inf, init | 0.21 | 1.76 | NA | 0.07 | 2.04 | NA | XXX
90766 |  | A | Ther/proph/dg iv inf, add-on | 0.18 | 0.46 | NA | 0.04 | 0.68 | NA | ZZZ
90767 |  | A | Tx/proph/dg addl seq iv inf | 0.19 | 0.89 | NA | 0.04 | 1.12 | NA | ZZZ
90768 |  | A | Ther/diag concurrent inf | 0.17 | 0.44 | NA | 0.04 | 0.65 | NA | ZZZ
90772 |  | A | Ther/proph/diag inj, sc/im | 0.17 | 0.31 | NA | 0.01 | 0.49 | NA | XXX
90773 |  | A | Ther/proph/diag inj, ia | 0.17 | 0.31 | NA | 0.02 | 0.50 | NA | XXX
90774 |  | A | Ther/proph/diag inj, iv push | 0.18 | 1.30 | NA | 0.04 | 1.52 | NA | XXX
90775 |  | A | Ther/proph/diag inj add-on | 0.10 | 0.57 | NA | 0.04 | 0.71 | NA | ZZZ
92626 |  | A | Eval aud status rehab | 0.00 | 2.20 | NA | 0.06 | 2.26 | NA | XXX
92627 |  | A | Evalaud status rehab add-on | 0.00 | 0.55 | NA | 0.02 | 0.57 | NA | ZZZ
96401 |  | A | Chemo, anti-neopl, sq/im | 0.21 | 1.17 | NA | 0.01 | 1.39 | NA | XXX
96402 |  | A | Chemo hormone antineopl sq/im | 0.19 | 1.01 | NA | 0.01 | 1.21 | NA | XXX
96409 |  | A | Chemo, iv push, sngl drug | 0.24 | 2.93 | NA | 0.06 | 3.23 | NA | XXX
96411 |  | A | Chemo, iv push, addl drug | 0.20 | 1.61 | NA | 0.06 | 1.87 | NA | ZZZ
96413 |  | A | Chemo, iv infusion, 1 hr | 0.28 | 4.20 | NA | 0.08 | 4.56 | NA | XXX
96415 |  | A | Chemo, iv infusion, addl hr | 0.19 | 0.77 | NA | 0.07 | 1.03 | NA | ZZZ
96416 |  | A | Chemo prolong infuse w/pump | 0.21 | 4.61 | NA | 0.08 | 4.90 | NA | XXX
96417 |  | A | Chemo iv infuse each addl seq | 0.21 | 1.95 | NA | 0.07 | 2.23 | NA | ZZZ
96450 |  | A | Chemotherapy, into CNS | 1.53 | 6.97 | 1.29 | 0.09 | 8.59 | 2.91 | 000
96521 |  | A | Refill/maint, portable pump | 0.21 | 3.77 | NA | 0.06 | 4.04 | NA | XXX
96522 |  | A | Refil/maint pump/resvr syst | 0.21 | 2.65 | NA | 0.06 | 2.92 | NA | XXX
96523 |  | A | Irrig drug delivery device | 0.04 | 0.69 | NA | 0.01 | 0.74 | NA | XXX
96542 |  | A | Chemotherapy injection | 0.75 | 4.26 | 0.66 | 0.07 | 5.08 | 1.48 | XXX
98960 |  | B | Self-mgmt educ & train, 1 pt | 0.00 | 0.00 | 0.00 | 0.00 | 0.00 | 0.00 | XXX
98961 |  | B | Self-mgmt educ/train, 2-4 pt | 0.00 | 0.00 | 0.00 | 0.00 | 0.00 | 0.00 | XXX
98962 |  | B | Self-mgmt educ/train 5-8 pt | 0.00 | 0.00 | 0.00 | 0.00 | 0.00 | 0.00 | XXX
99300 |  | A | Ic, infant pbw 2501-5000 gm | 2.40 | NA | 0.84 | 0.15 | NA | 3.35 | XXX
99324 |  | A | Domicil/r-home visit new pat | 1.01 | 0.49 | NA | 0.05 | 1.55 | NA | XXX
99325 |  | A | Domicil/r-home visit new pat | 1.52 | 0.68 | NA | 0.07 | 2.27 | NA | XXX
99326 |  | A | Domicil/r-home visit new pat | 2.27 | 0.92 | NA | 0.10 | 3.29 | NA | XXX
99327 |  | A | Domicil/r-home visit new pat | 3.03 | 1.17 | NA | 0.13 | 4.33 | NA | XXX
99328 |  | A | Domicil/r-home visit new pat | 3.78 | 1.42 | NA | 0.16 | 5.36 | NA | XXX
99334 |  | A | Domicil/r-home visit est pat | 0.76 | 0.40 | NA | 0.04 | 1.20 | NA | XXX
99335 |  | A | Domicil/r-home visit est pat | 1.26 | 0.58 | NA | 0.06 | 1.90 | NA | XXX
99336 |  | A | Domicil/r-home visit est pat | 2.02 | 0.82 | NA | 0.09 | 2.93 | NA | XXX
99337 |  | A | Domicil/r-home visit est pat | 3.03 | 1.15 | NA | 0.13 | 4.31 | NA | XXX
99340 |  | B | Domicil/r-home care supervis | 0.00 | 0.00 | 0.00 | 0.00 | 0.00 | 0.00 | XXX
¹ CPT codes and descriptions only. Copyright 2005 American Medical Association. All Rights Reserved. Applicable FARS/DFARS apply.
² Copyright 2005 American Dental Association. All Rights Reserved.
³ +Indicates RVUs are not used for Medicare payment.

4. On page 70467, in Addendum D, in the 11th entry, in the third column, the locality “Kansas*” is corrected to read “Kansas” as follows:

Addendum D.—2006 Geographic Practice Cost Indices by Medicare Carrier and Locality—Continued
Carrier | Locality | Locality name | Work GPCI | PE GPCI | MP GPCI
00650 | 00 | Kansas | 1.000 | 0.878 | 0.721

5. On page 70469, in Addendum E, in the fourth entry, in the third column, the locality “Kansas*” is corrected to read “Kansas” as follows:

Addendum E.—2006 GAFs—Continued
Carrier | Locality | Locality name | 2006 GAF
00650 | 00 | Kansas | 0.0936

6. On pages 70469 through 70471, Addendum F, in its entirety, is corrected to read as follows:

Addendum F.—Revised Single Drug Category List
HCPCS | Long description | Weight
J0150 | Injection, adenosine for therapeutic use, 6 mg | 0.00070000
J0152 | Injection, adenosine for diagnostic use, 30 mg | 0.00459478
J0170 | Injection, adrenalin, epinephrine, 1 ml ampule | 0.00007897
J0207 | Injection, amifostine, 500 mg | 0.00016099
J0215 | Injection, alefacept, 0.5 mg | 0.00083383
J0280 | Injection, aminophyllin, 250 mg | 0.00082088
J0290 | Injection, ampicillin sodium, 500 mg | 0.00012657
J0475 | Injection, baclofen, 10 mg | 0.00024643
J0540 | Injection, penicillin g benzathine and penicillin g procaine, 1,200,000 units | 0.00007209
J0550 | Injection, penicillin g benzathine and penicillin g procaine, 2,400,000 units | 0.00001831
J0570 | Injection, penicillin g benzathine, 1,200,000 units | 0.00004605
J0585 | Botulinum toxin type A, per unit | 0.03743206
J0587 | Botulinum toxin type B, per 100 units | 0.00150704
J0600 | Injection, edetate calcium disodium, 1000 mg | 0.00004459
J0637 | Injection, caspofungin acetate, 5 mg | 0.00008483
J0640 | Injection, leucovorin calcium, per 50 mg | 0.01064503
J0670 | Injection, mepivacaine hydrochloride, per 10 ml | 0.00038398
J0690 | Injection, cefazolin sodium, 500 mg | 0.00042410
J0692 | Injection, cefepime hydrochloride, 500 mg | 0.00024846
J0696 | Injection, ceftriaxone sodium, per 250 mg | 0.00668833
J0698 | Injection, cefotaxime sodium, per gm | 0.00014878
J0702 | Injection, betamethasone acetate & betamethasone sodium phosphate, per 3 mg | 0.00287709
J0704 | Injection, betamethasone sodium phosphate, per 4 mg | 0.00057059
J0735 | Injection, clonidine hydrochloride, 1 mg | 0.00034149
J0800 | Injection, corticotropin, 40 units | 0.00363945
J0881 | Injection, darbepoetin alfa, 1 mcg (non-ESRD use) | 0.15953454
J0885 | Injection, epoetin alpha, (for non ESRD use), per 1000 units | 0.25136609
J0895 | Injection, deferoxamine mesylate, 500 mg | 0.00024448
J1000 | Injection, depo-estradiol cypionate, 5 mg | 0.00021013
J1020 | Injection, methylprednisolone acetate, 20 mg | 0.00127329
J1030 | Injection, methylprednisolone acetate, 40 mg | 0.00593138
J1040 | Injection, methylprednisolone acetate, 80 mg | 0.00527803
J1051 | Injection, medroxyprogesterone acetate, 50 mg | 0.00006526
J1094 | Injection, dexamethasone acetate, 1 mg | 0.00351268
J1100 | Injection, dexamethasone sodium phosphate, 1 mg | 0.05492057
J1190 | Injection, dexrazoxane hydrochloride, per 250 mg | 0.00002444
J1200 | Injection, diphenhydramine hcl, 50 mg | 0.00216491
J1212 | Injection, DMSO, dimethyl sulfoxide, 50%, 50 ml | 0.00008475
J1245 | Injection, dipyridamole, per 10 mg | 0.00383178
J1250 | Injection, dobutamine hydrochloride, per 250 mg | 0.00053182
J1260 | Injection, dolasetron mesylate, 10 mg | 0.01737101
J1335 | Injection, ertapenem sodium, 500 mg | 0.00013263
J1440 | Injection, filgrastim (G-CSF), 300 mcg | 0.00193572
J1441 | Injection, filgrastim (G-CSF), 480 mcg | 0.00407388
J1450 | Injection fluconazole, 200 mg | 0.00001609
J1580 | Injection, garamycin, gentamicin, 80 mg | 0.00039937
J1600 | Injection, gold sodium thiomalate, 50 mg | 0.00005613
J1626 | Injection, granisetron hydrochloride, 100 mcg | 0.01483731
J1631 | Injection, haloperidol decanoate, per 50 mg | 0.00020702
J1642 | Injection, heparin sodium, (heparin lock flush), per 10 units | 0.06422737
J1644 | Injection, heparin sodium, per 1000 units | 0.00354562
J1645 | Injection, dalteparin sodium, per 2500 iu | 0.00011526
J1650 | Injection, enoxaparin sodium, 10 mg | 0.00135618
J1655 | Injection, tinzaparin sodium, 1000 iu | 0.00047170
J1720 | Injection, hydrocortisone sodium succinate, 100 mg | 0.00013327
J1745 | Injection infliximab, 10 mg | 0.02762721
J1756 | Injection, iron sucrose, 1 mg | 0.01026994
J1885 | Injection, ketorolac tromethamine, per 15 mg | 0.00330082
J1940 | Injection, furosemide, 20 mg | 0.00065369
J1956 | Injection, levofloxacin, 250 mg | 0.00008629
J2001 | Injection, lidocaine hcl for intravenous infusion, 10 mg | 0.00077528
J2010 | Injection, lincomycin hcl, 300 mg | 0.00062461
J2150 | Injection, mannitol, 25% in 50 ml | 0.00029211
J2260 | Injection, milrinone lactate, 5 mg | 0.00004959
J2300 | Injection, nalbuphine hydrochloride, per 10 mg | 0.00026341
J2325 | Injection, nesiritide, 0.1 mg | 0.00027406
J2353 | Injection, octreotide, depot form for intramuscular injection, 1 mg | 0.00195107
J2354 | Injection, octreotide, non-depot subcutaneous or intravenous injection, 25 mcg | 0.00008412
J2405 | Injection, ondansetron hydrochloride, per 1 mg | 0.01373037
J2430 | Injection, pamidronate disodium, per 30 mg | 0.00156790
J2505 | Injection, pegfilgrastim, 6 mg | 0.00065114
J2550 | Injection, promethazine hcl, 50 mg | 0.00068681
J2680 | Injection, fluphenazine decanoate, 25 mg | 0.00015113
J2765 | Injection, metoclopramide hCL, 10 mg | 0.00011134
J2780 | Injection, ranitidine hydrochloride, 25 mg | 0.00088550
J2820 | Injection, sargramostim (GM-CSF), 50 mcg | 0.00217910
J2912 | Injection, sodium chloride, 0.9%, per 2 ml | 0.00680009
J2916 | Injection, sodium ferric gluconate complex in sucrose injection, 12.5 mg | 0.00061134
J2920 | Injection, methylprednisolone sodium succinate, 40 mg | 0.00031230
J2930 | Injection, methylprednisolone sodium succinate, 125 mg | 0.00077199
J2997 | Injection, alteplase recombinant, 1 mg | 0.00012239
J3260 | Injection, tobramycin sulfate, 80 mg | 0.00018292
J3301 | Injection, triamcinolone acetonide, per 10 mg | 0.02166537
J3302 | Injection, triamcinolone diacetate, per 5 mg | 0.00173214
J3303 | Injection, triamcinolone hexacetonide, per 5 mg | 0.00094603
J3315 | Injection, triptorelin pamoate, 3.75 mg | 0.00000713
J3370 | Injection, vancomycin hCL, 500 mg | 0.00084187
J3396 | Injection, verteporfin, 0.1 mg | 0.05438624
J3410 | Injection, hydroxyzine hCL, 25 mg | 0.00041004
J3420 | Injection, vitamin B-12 cyanocobalamin, up to 1000 mcg | 0.01203050
J3475 | Injection, magnesium sulfate, per 500 mg | 0.00108505
J3480 | Injection, potassium chloride, per 2 meq | 0.00215709
J3487 | Injection, zoledronic acid, 1 mg | 0.00336479
J7030 | Infusion, normal saline solution, 1000 cc | 0.00102834
J7040 | Infusion, normal saline solution, sterile (500 ml = 1 unit) | 0.00243166
J7042 | 5% dextrose/normal saline (500 ml = 1 unit) | 0.00049872
J7050 | Infusion, normal saline solution, 250 cc | 0.00993344
J7060 | 5% dextrose/water (500 ml = 1 unit) | 0.00102860
J7070 | Infusion, D5W, 1000 cc | 0.00015894
J7120 | Ringers lactate infusion, 1000 cc | 0.00016980
J7317 | Sodium hyaluronate, per 20 to 25 mg dose for intra-articular injection | 0.00191598
J7320 | Hylan G-F 20, 16 mg, for intra articular injection | 0.00149854
J9000 | Doxorubicin hCL, 10 mg | 0.00235846
J9001 | Doxorubicin hydrochloride, all lipid formulations, 10 mg | 0.00032536
J9031 | BCG (Intravesical) per instillation | 0.00049267
J9040 | Bleomycin sulfate, 15 units | 0.00003728
J9045 | Carboplatin, 50 mg | 0.00570096
J9050 | Carmustine, 100 mg | 0.00000890
J9060 | Cisplatin, powder or solution, per 10 mg | 0.00095393
J9062 | Cisplatin, 50 mg | 0.00025430
J9065 | Injection, cladribine, per 1 mg | 0.00008142
J9070 | Cyclophosphamide, 100 mg | 0.00062691
J9080 | Cyclophosphamide, 200 mg | 0.00004968
J9090 | Cyclophosphamide, 500 mg | 0.00008125
J9091 | Cyclophosphamide, 1.0 gram | 0.00005049
J9092 | Cyclophosphamide, 2.0 gram | 0.00000530
J9093 | Cyclophosphamide, lyophilized, 100 mg | 0.00092680
J9094 | Cyclophosphamide, lyophilized, 200 mg | 0.00009190
J9095 | Cyclophosphamide, lyophilized, 500 mg | 0.00017696
J9096 | Cyclophosphamide, lyophilized, 1.0 gram | 0.00013977
J9097 | Cyclophosphamide, lyophilized, 2.0 gram | 0.00001360
J9098 | Cytarabine liposome, 10 mg | 0.00000817
J9100 | Cytarabine, 100 mg | 0.00013010
J9110 | Cytarabine, 500 mg | 0.00002076
J9130 | Dacarbazine, 100 mg | 0.00009429
J9140 | Dacarbazine, 200 mg | 0.00007024
J9150 | Daunorubicin, 10 mg | 0.00000490
J9170 | Docetaxel, 20 mg | 0.00257221
J9178 | Injection, epirubicin hCL, 2 mg | 0.00121917
J9181 | Etoposide, 10 mg | 0.00231466
J9182 | Etoposide, 100 mg | 0.00053112
J9185 | Fludarabine phosphate, 50 mg | 0.00030647
J9190 | Fluorouracil, 500 mg | 0.00396193
J9200 | Floxuridine, 500 mg | 0.00000409
J9201 | Gemcitabine hCL, 200 mg | 0.00496182
J9202 | Goserelin acetate implant, per 3.6 mg | 0.00288597
J9206 | Irinotecan, 20 mg | 0.00319095
J9208 | Ifosfamide, 1 gm | 0.00007892
J9209 | Mesna, 200 mg | 0.00036868
J9211 | Idarubicin hydrochloride, 5 mg | 0.00000318
J9213 | Interferon, ALFA-2A, recombinant, 3 million units | 0.00008082
J9214 | Interferon, ALFA-2B, recombinant, 1 million units | 0.00675198
J9219 | Leuprolide acetate implant, 65 mg | 0.00006526
J9245 | Injection, melphalan hydrochloride, 50 mg | 0.00000159
J9250 | Methotrexate sodium, 5 mg | 0.00186700
J9260 | Methotrexate sodium, 50 mg | 0.00051449
J9263 | Injection, oxaliplatin, 0.5 mg | 0.07318565
J9265 | Paclitaxel, 30 mg | 0.00556692
J9268 | Pentostatin, per 10 mg | 0.00000645
J9280 | Mitomycin, 5 mg | 0.00004077
J9290 | Mitomycin, 20 mg | 0.00003481
J9291 | Mitomycin, 40 mg | 0.00006143
J9293 | Injection, mitoxantrone hydrochloride, per 5 mg | 0.00025120
J9310 | Rituximab, 100 mg | 0.00409565
J9320 | Streptozocin, 1 gm | 0.00000673
J9340 | Thiotepa, 15 mg | 0.00002452
J9350 | Topotecan, 4 mg | 0.00018268
J9355 | Trastuzumab, 10 mg | 0.00543348
J9360 | Vinblastine sulfate, 1 mg | 0.00035813
J9370 | Vincristine sulfate, 1 mg | 0.00019751
J9375 | Vincristine sulfate, 2 mg | 0.00011515
J9390 | Vinorelbine tartrate, per 10 mg | 0.00111035
J9395 | Injection, fulvestrant, 25 mg | 0.00126670
J9600 | Porfimer sodium, 75 mg | 0.00000030
Q3025 | Injection, interferon BETA-1A, 11 mcg for intramuscular use | 0.00078263

IV. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive the notice and comment procedures if the Secretary finds, for good cause, that the notice and comment process is impracticable, unnecessary or contrary to the public interest, and incorporates a statement of the finding and the reasons therefore in the rule. We can also waive the 30-day delay in effective date under the APA (5 U.S.C. 553(d)) when there is good cause to do so and we publish in the rule an explanation of our good cause.

This correcting amendment addresses technical errors and omissions made in FR Doc. 05-22160, entitled “Medicare Program; Revisions to Payment Policies Under the Physician Fee Schedule for Calendar Year 2006 and Certain Provisions Related to the Competitive Acquisition Program of Outpatient Drugs and Biologicals Under Part B,” which appeared in the Federal Register on November 21, 2005 (70 FR 70116) and was made effective January 1, 2006. The provisions of this final rule with comment period have been previously subjected to notice and comment procedures. These corrections are consistent with the discussion and text and do not make substantive changes to the CY 2006 published rule. As such, this correcting amendment is intended to ensure the CY 2006 final rule with comment accurately reflects the policy adopted. Therefore, we find that undertaking further notice and comment procedures to incorporate these corrections into the final rule with comment is unnecessary and contrary to the public interest.

For the same reasons, we are also waiving the 30-day delay in effective date for this correcting amendment. We believe that it is in the public interest to ensure that the CY 2006 final rule with comment accurately states our policy on physician fee schedule and other Part B payment policies, and provisions related to the competitive acquisition program of outpatient drugs and biologicals under Part B. Therefore, delaying the effective date of these corrections beyond the January 1, 2006 effective date of the final rule with comment period would be contrary to the public interest. In so doing, we find good cause to waive the 30-day delay in the effective date.

(Catalog of Federal Domestic Assistance Program No. 93.774, Medicare—Supplementary Medical Insurance Program)
Dated: February 7, 2006.
Ann C. Agnew,
Executive Secretary to the Department.

[FR Doc. 06-1711 Filed 2-23-06; 8:45 am]

BILLING CODE 4120-01-P